DEPARTMENT OF LABOR

Employment and Training Administration

Investigations Regarding Eligiblity To Apply for Trade Adjustment Assistance

In accordance with the Trade Act of 1974 (19 U.S.C. 2271, et seq.) (“Act”), as amended, the Department of Labor herein presents notice of investigations regarding eligibility to apply for trade adjustment assistance under chapter 2 of the Act (“TAA”) for workers by (TA-W) started during the period of February 1, 2022 through February 28, 2022.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than ten days after publication in Federal Register.

Initial Investigations

The following are initial investigations commenced following the receipt of a properly filed petition.

TA-W No. | Subject firm | Location | Inv start date
98,186 | RAI Services Company (RAISC) | Winston-Salem, NC | 2/3/2022
98,187 | Enstrom Helicopter Corporation | Menominee, MI | 2/4/2022
98,188 | Christian Anderson Companies, LLC | Eau Claire, WI | 2/4/2022
98,189 | Legendary Headware LLC | San Diego, CA | 2/4/2022
98,190 | Formfactor, Inc | Beaverton, OR | 2/8/2022
98,191 | Portland General Electric Boardman Coal Plant | Boardman, OR | 2/8/2022
98,192 | Tenet Health Corporation | Dallas, TX | 2/8/2022
98,193 | GenOn Energy Service LLC | Avon Lake, OH | 2/9/2022
98,194 | Amy's Kitchen, Inc | Pocatello, ID | 2/10/2022
98,195 | Endomines Idaho, LLC | Elk City, ID | 2/10/2022
98,196 | Nippon Carbide | Greenville, SC | 2/10/2022
98,197 | Zones, LLC | Auburn, WA | 2/10/2022
98,198 | Spectranetics | Colorado Springs, CO | 2/11/2022
98,199 | Anixter, Inc | Woodbury, NY | 2/15/2022
98,200 | Allied Global | Coral Gables, FL | 2/17/2022
98,201 | Molded Acoustical Products of Easton Inc | Granger, IN | 2/17/2022
98,202 | Clarivate | Philadelphia, PA | 2/22/2022
98,203 | East West Manufacturing | El Paso, TX | 2/22/2022
98,204 | Luminant Energy Co., LLC—Miami Fort Generating Station | North Bend, OH | 2/23/2022
98,205 | Auto Injury Solutions/CCC Information Services, Inc | Chicago, IL | 2/25/2022
98,206 | Ross Casting and Innovation, LLC | Sidney, OH | 2/25/2022
98,207 | Lakeside Book Company | Cranbury, NJ | 2/28/2022
98,208 | TOPS Products | Beresford, SD | 2/28/2022

A record of these investigations and petitions filed are available, subject to redaction, on the Department's website https://www.dol.gov/agencies/eta/tradeact under the searchable listing or by calling the Office of Trade Adjustment Assistance toll free at 888-365-6822.

Signed at Washington, DC, this 3rd day of March 2022.
Hope D. Kinglock,
Certifying Officer, Office of Trade Adjustment Assistance.

[FR Doc. 2022-05267 Filed 3-11-22; 8:45 am]

BILLING CODE 4510-FN-P